Title 3—

The President

Executive Order 13623 of August 10, 2012

Preventing and Responding to Violence Against Women and Girls Globally

By the authority vested in me as President by the Constitution and the laws of the United States of America, it is hereby ordered as follows:

Section 1. Policy. (a) Recognizing that gender-based violence undermines not only the safety, dignity, and human rights of the millions of individuals who experience it, but also the public health, economic stability, and security of nations, it is the policy and practice of the executive branch of the United States Government to have a multi-year strategy that will more effectively prevent and respond to gender-based violence globally.

(b) Under the leadership of my Administration, the United States has made gender equality and women's empowerment a core focus of our foreign policy. This focus is reflected in our National Security Strategy, the Presidential Policy Directive on Global Development, and the 2010 U.S. Quadrennial Diplomacy and Development Review. Evidence demonstrates that women's empowerment is critical to building stable, democratic societies; to supporting open and accountable governance; to furthering international peace and security; to growing vibrant market economies; and to addressing pressing health and education challenges.

(c) Preventing and responding to gender-based violence is a cornerstone of my Administration's commitment to advance gender equality and women's empowerment. Such violence significantly hinders the ability of individuals to fully participate in, and contribute to, their communities—economically, politically, and socially. It is a human rights violation or abuse; a public health challenge; and a barrier to civic, social, political, and economic participation. It is associated with adverse health outcomes, limited access to education, increased costs relating to medical and legal services, lost household productivity, and reduced income, and there is evidence it is exacerbated in times of crisis, such as emergencies, natural disasters, and violent conflicts.

(d) The executive branch multi-year strategy for preventing and responding to gender-based violence is set forth in the United States Strategy to Prevent and Respond to Gender-based Violence Globally (Strategy). The Strategy both responds to and expands upon the request in section 7061 of House conference report 112-331 accompanying the Department of State, Foreign Operations, and Related Programs Appropriations Act, 2012 (Division I of Public Law 112-74), for the executive branch to develop a multi-year strategy to prevent and respond to violence against women and girls in countries where it is common.

Sec. 2. Creating an Interagency Working Group. There is established an Interagency Working Group (Working Group) to address gender-based violence, which shall coordinate implementation of the Strategy by the executive departments and agencies that are members of the Working Group (member agencies) in accordance with the priorities set forth in section 3 of this order.

(a) The Working Group shall be co-chaired by the Secretary of State and the Administrator of the United States Agency for International Development (Co-Chairs). In addition to the Co-Chairs, the Working Group shall consist of representatives from:

(i) the Department of the Treasury;

(ii) the Department of Defense;

(iii) the Department of Justice;

(iv) the Department of Labor;

(v) the Department of Health and Human Services;

(vi) the Department of Homeland Security;

(vii) the Office of Management and Budget;

(viii) the National Security Staff;

(ix) the Office of the Vice President;

(x) the Peace Corps;

(xi) the Millennium Challenge Corporation;

(xii) the White House Council on Women and Girls; and

(xiii) other executive departments, agencies, and offices, as designated by the Co-Chairs.

(b) Within 120 days of the date of this order, the Co-Chairs shall convene the first meeting of the Working Group to:

(i) establish benchmarks to implement the Strategy; and

(ii) determine a timetable for periodically reviewing those benchmarks.

(c) Within 18 months of the date of this order, the Working Group shall complete a progress report for submission to the Co-Chairs evaluating the U.S. Government's implementation of the Strategy.

(d) Within 3 years of the date of this order, the Working Group shall complete a final evaluation for submission to the Co-Chairs of the U.S. Government's implementation of the Strategy.

(e) Within 180 days of completing its final evaluation of the Strategy in accordance with subsection (d) of this section, the Working Group shall update or revise the Strategy to take into account the information learned and the progress made during and through the implementation of the Strategy.

(f) The activities of the Working Group shall, consistent with law, take due account of existing interagency bodies and coordination mechanisms and will coordinate with such bodies and mechanisms where appropriate in order to avoid duplication of efforts.

Sec. 3. Strategy to Prevent and Respond to Gender-based Violence Globally. Member agencies shall implement the Strategy to prevent and respond to gender-based violence globally based on the following priorities reflected in the Strategy:

(a) Increasing Coordination of Gender-based Violence Prevention and Response Efforts Among U.S. Government Agencies and with Other Stakeholders.

(i) Member agencies shall draw upon each other's expertise, responsibility, and capacity to provide a comprehensive and multi-faceted approach to issues relating to gender-based violence.

(ii) Member agencies shall deepen engagement and coordination with other governments; international organizations, including multilateral and bilateral actors; the private sector; and civil society organizations, such as representatives of indigenous and marginalized groups, foundations, community-based, faith-based, and regional organizations (including those that serve survivors), labor unions, universities, and research organizations. The Working Group shall consider a range of mechanisms by which these stakeholders may provide input to the U.S. Government on its role in preventing and responding to gender-based violence globally.

(b) Enhancing Integration of Gender-based Violence Prevention and Response Efforts into Existing U.S. Government Work. Member agencies shall more comprehensively integrate gender-based violence prevention and response programming into their foreign policy and foreign assistance efforts. This integration shall also build on current efforts that address gender-based violence, such as the U.S. National Action Plan on Women, Peace, and Security; the Global Health Initiative; the President's Emergency Plan for AIDS Relief; the U.S. Government's work to counter trafficking in persons; and the U.S. Government's humanitarian response efforts. The Working Group shall coordinate these different efforts as they relate to gender-based violence to leverage the most effective programs and to avoid duplication.

(c) Improving Collection, Analysis, and Use of Data and Research to Enhance Gender-based Violence Prevention and Response Efforts. Member agencies shall work to promote ethical and safe research, data collection, and evidence-based analyses relating to different forms of gender-based violence and prevention and response efforts at the country and local level. This work will include the development of a research agenda that assesses agencies' research and data collection capabilities, needs, and gaps; builds upon existing data and research; and is coordinated with the work of other organizations that are prioritizing global gender-based violence research. Member agencies shall prioritize the monitoring and evaluation of gender-based violence prevention and response interventions to determine their effectiveness. Member agencies shall systematically identify and share best practices, lessons learned, and research within and across agencies. Member agencies, as appropriate, shall seek to develop public-private partnerships to support U.S. Government research initiatives and strategic planning efforts.

(d) Enhancing or Expanding U.S. Government Programming that Addresses Gender-based Violence. Consistent with the availability of appropriations, the U.S. Government shall support programming that provides a comprehensive and multi-sector approach to preventing and responding to gender-based violence; shall consider replicating or expanding successful programs; and shall assess the feasibility of a focused, coordinated, comprehensive, and multi-sector approach to gender-based violence in one or more countries.

Sec. 4. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) Independent agencies are strongly encouraged to comply with this order.

(d) This order is not intended to, and does not, create any right or benefit, substantive or procedural, enforceable at law or in equity by any party against the United States, its departments, agencies, or entities, its officers, employees, or agents, or any other person.

THE WHITE HOUSE,

Washington, August 10, 2012.

[FR Doc. 2012-20259

Filed 8-15-12; 8:45 am]

Billing code 3295-F2-P